FEDERAL ELECTION COMMISSION

Sunshine Act Meeting

Federal Register CITATION NOTICE OF PREVIOUS ANNOUNCEMENT: 84 FR 16262

PREVIOUSLY ANNOUNCED TIME AND DATE OF THE MEETING: Tuesday, April 23, 2019 at 10:00 a.m.

CHANGES IN THE MEETING: This meeting was continued on Thursday, April 25, 2019.

* * * * *

CONTACT PERSON FOR MORE INFORMATION: Judith Ingram, Press Officer, Telephone: (202) 694-1220.

Laura E. Sinram,
Deputy Secretary of the Commission.

[FR Doc. 2019-08778 Filed 4-25-19; 4:15 pm]

BILLING CODE 6715-01-P